Proclamation 8461 of December 2, 2009

National Impaired Driving Prevention Month, 2009

By the President of the United States of America

A Proclamation

Every day, people put themselves and their fellow Americans in danger on our Nation’s roadways when they drive after consuming alcohol or after using legal and illegal drugs. During this holiday season, we must all be especially vigilant in protecting our families, friends, and neighbors from drivers who are under the influence of drugs or alcohol.

Although we have succeeded in decreasing the number of drunk drivers in recent years, we have seen a disturbing increase in Americans driving under the influence of drugs.

Operating a vehicle under the influence of drugs poses the same risks as drunk driving, and we must do more to stop this growing epidemic. Families, businesses, community organizations, and faith-based groups can promote substance abuse prevention as well as alternative sources of transportation for those under the influence of drugs or alcohol. Each of us can save lives in our own communities by encouraging our fellow citizens to drive responsibly.

My Administration is working hard to prevent impaired driving. The Department of Transportation’s National Highway Traffic Safety Administration is again sponsoring the campaign known as “Drunk Driving. Over the Limit. Under Arrest.” This effort involves thousands of law enforcement agencies across America. Police will expand their efforts during the high-risk travel period between December 16, 2009, and January 3, 2010 to ensure that impaired drivers are stopped and arrested.

During National Impaired Driving Prevention Month, we are reminded of the importance of driving free from the influence of alcohol and drugs, and we renew our commitment to preventing the senseless loss of life that too often results from this irresponsible behavior. By working together, we can make our Nation’s roadways safer for all Americans.

NOW, THEREFORE, I, BARACK OBAMA, President of the United States of America, by virtue of the authority vested in me by the Constitution and the laws of the United States, do hereby proclaim December 2009 as National Impaired Driving Prevention Month. I urge all Americans to make responsible decisions and take appropriate measures to prevent impaired driving.

IN WITNESS WHEREOF, I have hereunto set my hand this second day of December, in the year of our Lord two thousand nine, and of the Independence of the United States of America the two hundred and thirty-fourth.

[FR Doc. E9-29372

Filed 12-7-09; 8:45 am]

Billing code 3195-W0-P